DEPARTMENT OF TRANSPORTATION

Federal Aviation Administration

FAA Approval of Noise Compatibility Program, Port Columbus International Airport, Columbus, OH

AGENCY: Federal Aviation Administration, DOT.

ACTION: Notice.

SUMMARY: The Federal Aviation Administration (FAA) announces its findings on the noise compatibility program submitted by the Columbus Municipal Airport Authority under the provisions of Title I of the Aviation Safety and Noise Abatement Act of 1979 (Public Law 96-193) and 14 CFR Part 150. These findings are made in recognition of the description of Federal and nonfederal responsibilities in Senate Report No. 96-52 (1980). On January 3, 2000, the FAA determined that the noise exposure maps submitted by the Columbus Municipal Airport Authority under Part 150 were in compliance with applicable requirements. On January 10, 2001, the FAA approved the Port Columbus International Airport noise compatibility program. All of the recommendations of the program were approved. A total of twenty-two (22) measures were included in the Columbus Municipal Airport Authority recommended program. Of the twenty-two measures, five (5) are listed as “Noise abatement Plan Measures”, eleven (11) are listed as “Land Use Management Plan”, and six (6) are listed as “Program Management Measures.” The FAA has approved all twenty-two (22) measures.

EFFECTIVE DATE: The effective date of the FAA's approval of the Port Columbus International Airport noise compatibility program is January 10, 2001.

FOR FURTHER INFORMATION CONTACT: Mary Jagiello, Federal Aviation Administration, Great Lakes Region, Detroit Airports District Office, DET ADO-670.1, Willow Run Airport, East, 8820 Beck Road, Belleville, Michigan 48111, (734) 487-7296. Documents reflecting this FAA action may be reviewed at this same location.

SUPPLEMENTARY INFORMATION: This notice announces that the FAA has given its overall approval to the noise compatibility program for Port Columbus International Airport, effective January 10, 2001.

Under section 104(a) of the Aviation Safety and Noise Abatement Act of 1979 (hereinafter referred to as “the Act”), an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act, and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to the FAA's approval of an airport noise compatibility are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Detroit Airports Districts Office in Belleville, Michigan.

The Columbus Municipal Airport Authority submitted to the FAA on June 14, 1999, noise exposure maps, descriptions, and other documentation produced during the noise compatibility planning study conducted from January 1, 1997 through December 31, 1997. The Port Columbus International Airport noise exposure maps were determined by the FAA to be in compliance with applicable requirements on January 3, 2000. Notice of this determination was published in the Federal Register on February 4, 2000.

The Port Columbus International Airport study contains a proposed noise compatibility program comprised of actions designed for phased implementation by airport management and adjacent jurisdictions from June 14, 1999 to the year 2003. It was requested that the FAA evaluate and approve this material as a noise compatibility program as described in section 104(b) of the Act. The FAA began its review of the program on July 14, 2000, and was required by a provision of the Act to approve or disapprove the program within 180 days (other than the use of new flight procedures for noise control). Failure to approve or disapprove such program within the 180-day period shall be deemed to be an approval of such program.

The submitted program contained twenty-two (22) proposed actions for noise mitigation on and/or off the airport, as applicable. The FAA completed its review and determined that the procedural and substantive requirements of the Act and FAR Part 150 have been satisfied. The overall program therefore, was approved by the FAA effective January 10, 2001.

Outright approval was granted for all twenty-two (22) of the specific program elements. Five (5) of the twenty-two (22) measures submitted are listed as “Noise Abatement Plan Measures.” These include an amendment to the Night Time Aircraft Maintenance Runup Policy to designate an additional run-up location at the north airfield; the construction of a new run-up barrier at the north airfield; continue use of the informal Nighttime Preferential Runway Use program in effect at CMH with an amendment to increase nighttime use of Runway 10L/28R; amend FAA Tower Order CMH ATCT 7110.1 and publish an informal preferential runway use system in the Airport Facilities Directory to maximize east flow; and amend the language in the FAA Tower Order CMH ATCT 7110.1 and FAA Notice CMH ATCT N7110.22 to comply with FAA requirements. Eleven (11) of the twenty-two (22) measures are listed as “Land Use Measures.” These include noise insulation of noncompatible structures, residences, and churches within the DNL 65+ dB contour of the Year 2003; seek cooperation from the City of Columbus and Franklin County to amend their Land Use Compatibility Standards and the boundaries of the Airport Environs Overlay (AEO) District; encourage Franklin County to amend their County Zoning Resolutions; encourage Jefferson Township and the City of Gahanna to adopt the AEO-Airport Environs Overlay District as part of their zoning regulations; encourage Franklin County, Jefferson Township, Mifflin Township, and the City of Gahanna to adopt subdivision codes and building codes applicable to the AEO district; encourage the Board of Realtors to participate in voluntary fair disclosure program for property located within the AEO District; periodically place advertisements in the real estate sections of local newspapers delineating the boundaries of the AEO District; purchase the Buckles property. Six (6) of the twenty-two (22) measures are listed as “Program Management Measures.” These include maintaining the noise abatement measure of the FAA ATCT Tower Order; maintaining the Noise Management Office, public involvement program, and the noise and flight track monitoring system; routinely update the noise contours and periodically update the noise program; and establish a land use compatibility task force.

These determinations are set forth in detail in a Record of Approval signed by the Associate Administrator on January 10, 2001. The Record of Approval, as well as other evaluation materials and the documents comprising the submittal, are available for review at the FAA office listed above and at the administrative offices of the Columbus Municipal Airport Authority.

Issued in Belleville, Michigan, March 8, 2001.
Irene Porter,
Manager, Detroit Airports District Office, Great Lakes Region.

[FR Doc. 01-8441 Filed 4-5-01; 8:45 am]

BILLING CODE 4910-13-M